DEPARTMENT OF AGRICULTURE

Rural Business-Cooperative Service

Inviting Rural Business Enterprise Grant Program Applications for Feasibility Studies or Feasibility and Marketing Studies

AGENCY: Rural Business-Cooperative Service, USDA.

ACTION: Notice.

SUMMARY: The Rural Business-Cooperative Service (RBS), an Agency within the Rural Development mission area, announces the availability of grants up to $50,000 per application from the Rural Business Enterprise Grant (RBEG) Program for fiscal year (FY) 2007 for feasibility studies or feasibility and marketing studies, to be competitively awarded. The amount available for these competitive grants is $250,000. Funding under this announcement is targeted to the Rural Economic Area Partnerships (REAP) Zones. A list of current REAP Zones is available at http://www.ezec.gov/communit/reap.html. This notice is being issued prior to passage of a final appropriations bill to allow applicants sufficient time to leverage financing, submit applications, and give the Agency time to process applications.

DATES: The deadline for receipt of applications in the Rural Development State Office is December 8, 2006. Applications received at a Rural Development State Office after that date will not be considered for FY 2007 funding.

ADDRESSES: For further information, entities located in REAP Zones wishing to apply for assistance should contact a Rural Development State Office to receive further information and copies of the application package. REAP Zones are located in the states of New York, North Dakota, and Vermont. Contact information for the Rural Development State Offices in those states is as follows:

New York, USDA Rural Development State Office, The Galleries of Syracuse, 441 South Salina Street, Suite 357, Syracuse, NY 13202-2541, (315) 477-6400/TDD (315) 477-6447.

North Dakota, USDA Rural Development State Office, Federal Building, Room 208, 220 East Rosser, P.O. Box 1737, Bismarck, ND 58502-1737, (701) 530-2037/TDD (701) 530-2113.

Vermont/New Hampshire, USDA Rural Development State Office, City Center, 3rd Floor, 89 Main Street, Montpelier, VT 05602, (802) 828-6000/TDD (802) 223-6365.

SUPPLEMENTARY INFORMATION:

Overview

Federal Agency: Rural Business-Cooperative Service (RBS).

Funding Opportunity Title: Rural Business Enterprise Grants.

Announcement Type: Initial announcement.

Catalog of Federal Domestic Assistance Number: 10.769.

Dates: Application Deadline: Completed applications must be received in the Rural Development State Office no later than December 8, 2006, to be eligible for FY 2007 grant funding. Applications received after this date will not be eligible for FY 2007 grant funding.

I. Funding Opportunity Description

The RBEG program is authorized by section 310B(c) of the Consolidated Farm and Rural Development Act (CONACT) (7 U.S.C. 1932(c)). Regulations are contained in 7 CFR part 1942, subpart G. The primary objective of the program is to improve the economic conditions of rural areas. The program is administered on behalf of RBS at the State level by the Rural Development State Offices. Assistance provided to rural areas under this program may include feasibility studies or feasibility and marketing studies for business development and economic development planning. The maximum grant available under this NOFA is $50,000. Awards are made on a competitive basis using specific selection criteria contained in 7 CFR part 1942, subpart G. Information required to be in the application package include an SF-424, “Application for Federal Assistance,” RD 1940-20, “Request for Environmental Information,” Scope of Work Narrative, Income Statement, Balance Sheet or Audit for previous three years, AD-1047, “Debarment/Suspension Certification,” AD-1048, “Certification Regarding Debarment, Suspension, Ineligibility and Voluntary Exclusion,” AD-1049, “Certification Regarding Drug-Free Workplace Requirements,” Restrictions on Lobbying, RD 400-1, “Equal Opportunity Agreement,” RD 400-4, “Assurance Agreement,” Letter stating Board authorization to obtain assistance, Letter certifying citizenship, as referenced in 7 CFR 1942.307(b), and Evidence of Insurance and Bonding equal to the amount of Federal funds with the Agency listed as the loss payee. Applications will be tentatively scored by the State Offices and submitted to the National Office for review. To ensure that only high quality projects are funded, States may submit only those projects to the National Office that score one-hundred (100) or more of the points available at the State level. After submission to the National Office, applications will be ranked based on merit. The Agency Administrator may then assign up to 50 discretionary points to ensure geographic distribution of funds. After the assignment of discretionary points, final selections will be made.

Definitions

The definitions are published at 7 CFR 1942.304.

II. Award Information

Type of Award: Grant.

Fiscal Year Funds: FY 2007.

Total Funding: $250,000.

Approximate Number of Awards: 5.

Average Award: $50,000.

Anticipated Award Date: February 15, 2007.

III. Eligibility Information

A. Eligible Applicants

Grants may be made to public bodies and private nonprofit corporations serving rural areas. Public bodies include States, counties, cities, townships, and incorporated town and villages, boroughs, authorities, districts, and Indian tribes on Federal and State reservations and other Federally recognized Indian Tribal groups in rural areas.

B. Cost Sharing or Matching

Matching funds are not required.

C. Other Eligibility Requirements

Applications will only be accepted from Rural Economic Area Partnerships (REAP) Zones for feasibility studies or feasibility and marketing studies.

D. Completeness Eligibility

Applications will not be considered for funding if they do not provide sufficient information to determine eligibility or missing required elements.

IV. Fiscal Year 2007 Application and Submission Information

A. Address To Request Application Package

For further information, entities wishing to apply for assistance should contact the Rural Development State Office identified in this NOFA to obtain copies of the application package.

B. Content and Form of Submission

An application must contain all of the required elements. Each application received in a Rural Development State Office will be reviewed to determine if it is consistent with the eligible purposes contained in section 310B(c) of the CONACT. Each selection priority criterion outlined in 7 CFR 1942.305 (b)(3), must be addressed in the application. Failure to address any of the criteria will result in a zero-point score for that criterion and will impact the overall evaluation of the application. Copies of 7 CFR part 1942, subpart G, will be provided to any interested applicant making a request to a Rural Development State Office listed in this notice.

C. Submission Dates and Times

Application Deadline Date: December 8, 2006.

Explanation of Deadlines: Applications must be in the Rural Development State Office by the deadline date. All eligible applications, along with tentative scoring sheets and the Rural Development State Director's recommendation, will be referred to the National Office no later than December 29, 2006, for final scoring and selection for an award.

V. Application Review Information

The National Office will score applications based on the grant selection criteria and weights contained in 7 CFR part 1942, subpart G and will select a grantee subject to the grantee's satisfactory submission of a formal application and related materials in the manner established by RBS in accordance with 7 CFR part 1942, subpart G.

VI. Award Administration Information

A. Award Notices

Successful applicants will receive notification for funding from the Rural Development State Office. Applicants must comply with all applicable statutes and regulations before the grant award will be approved. Unsuccessful applications will receive notification by mail.

B. Administrative and National Policy Requirements

Additional requirements that apply to grantees selected for this program can be found in the 7 CFR part 1942, subpart G and 7 CFR chapter XXX.

VII. Agency Contacts

For general questions about this announcement, please contact your USDA Rural Development State Office identified in this NOFA.

Nondiscrimination Statement

“The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (braille, large print, audiotape, etc.) should contact USDA's TARGET Center at (202) 720-2600 (voice and TDD).

To file a complaint of discrimination, write to USDA, Director, Office of Civil Rights, 1400 Independence Avenue, SW., Washington, DC 20250-9410 or call (800) 795-3272 (voice) or (202) 720-6382 (TDD). USDA is an equal opportunity provider, employer, and lender.”

Dated: November 14, 2006.
Jackie J. Gleason,
Administrator, Rural Business-Cooperative Service.

[FR Doc. E6-19499 Filed 11-17-06; 8:45 am]

BILLING CODE 3410-XY-P